FEDERAL COMMUNICATIONS COMMISSION

47 CFR Part 76

[MB Docket No. 22-239; DA 23-740; FR ID 169282]

Update to Publication for Television Broadcast Station DMA Determinations for Cable and Satellite Carriage

AGENCY: Federal Communications Commission.

ACTION: Technical amendment.

SUMMARY: In this document, the Federal Communications Commission (Commission) conforms a section of its rules to the requirements of the Communications Act, correcting errors that were inadvertently introduced in the prior Report and Order, which revised Commission rules to use the Nielsen Company's Local TV Station Information Report as the successor publication to the annual Station Index Directory and United States Television Household Estimates in determining a television station's designated market area for satellite and cable carriage under the Commission's regulations. This action makes no substantive changes to this regulation.

DATES: This rule is effective October 12, 2023.

FOR FURTHER INFORMATION CONTACT: Contact Kenneth Lewis, Kenneth.lewis@fcc.gov, of the Media Bureau, Policy Division, (202) 418-2622.

SUPPLEMENTARY INFORMATION: This is a summary of the Media Bureau's Order, in MB Docket No. 22-239; DA 23-740, adopted and released on August 21, 2023. The full text of this document is available for download at https://docs.fcc.gov/public/attachments/DA-23-740A1.pdf. To request materials in accessible formats (braille, large print, computer diskettes, or audio recordings), please send an email to FCC504@fcc.gov (mailto:FCC504@fccc.gov) or call the Consumer and Government Affairs Bureau at (202) 418-0530 (VOICE), (202) 418-0432 (TTY).

Synopsis

On November 17, 2022, the Commission adopted the Nielsen Update Report and Order, MB Docket No. 22-239, FCC 22-89, which revised Commission rules to use the Nielsen Company's Local TV Station Information Report as the successor publication to the annual Station Index Directory and United States Television Household Estimates in determining a television station's designated market area for satellite and cable carriage under the Commission's regulations.¹ Pursuant to that change, § 76.66(e)(3) of the Commission's rules was revised, and the time periods mentioned in that rule were brought up to date.² These updates were intended to reflect the upcoming statutorily-established carriage election cycle periods,³ but contained errors.

¹ Update to Publication for Television Broadcast Station DMA Determinations for Cable and Satellite Carriage, Report and Order, FCC 22-89, MB Docket No. 22-239 (rel. Nov. 18, 2022).

² Id. at Appendix B, Final Rules, para. 3.

³ 47 U.S.C. 325(b)(3)(B) (“The regulations required by subparagraph (A) shall require that television stations, within one year after October 5, 1992, and every three years thereafter, make an election between the right to grant retransmission consent under this subsection and the right to signal carriage under section 534 of this title.”).

Technical Correction

Section 47 U.S.C. 325(b)(3)(B) requires that television stations, within one year after October 5, 1992, and every three years thereafter, make an election between the right to grant retransmission consent under this subsection and the right to signal carriage under section 534 of this title.” ⁴ In this Order, we revise § 76.66(e)(3) of the Commission's rules in order to conform to the requirements of the Communications Act. Specifically, we correct the references to the upcoming carriage election cycles in the first and second sentences to confirm that the next cycle runs from 2024-2026 (not 2024-2027), and the following cycle runs from 2027-2029 (not 2028-2030).

⁴ Id.

Regulatory Analyses

Administrative Procedure Act

We find that notice and comment procedures are unnecessary under the “good cause” exception of the Administrative Procedure Act (APA) because correcting the references in § 76.66(e)(3) entails no exercise of our administrative discretion.⁵ The dates of each carriage cycle are long-established as a matter of law, and the reference to these dates in § 76.66 is merely as an aid to understanding. The rule change does not establish additional regulatory obligations or burdens on regulated entities. Consequently, we find notice and comment procedures are unnecessary for this action.

⁵ 5 U.S.C. 553(b)(3)(B) (notice and comment is not necessary “when the agency for good cause finds (and incorporates the finding and a brief statement of reasons therefor in the rules issued) that notice and public procedure thereon are impracticable, unnecessary, or contrary to the public interest”).

Paperwork Reduction Act Analysis

This document does not contain any new or modified information collection requirements subject to the Paperwork Reduction Act of 1995 (PRA).⁶ In addition, therefore, it does not contain any new or modified information collection burden for small business concerns with fewer than 25 employees, pursuant to the Small Business Paperwork Relief Act of 2002.⁷

⁶ The Paperwork Reduction Act of 1995, Public Law 104-13, 109 Stat. 163 (1995) (codified in Chapter 35 of title 44 U.S.C.).

⁷ The Small Business Paperwork Relief Act of 2002 (SBPRA), Public Law 107-198, 116 Stat. 729 (2002) (codified in Chapter 35 of title 44 U.S.C.); see 44 U.S.C. 3506(c)(4).

Congressional Review Act

Because this is a technical correction, there is no impact under the Congressional Review Act, 5 U.S.C. 804(2). Thus, the Bureau will not send a copy of this Order to Congress or the Government Accountability Office.

Regulatory Flexibility Act

Because these rule changes are being adopted without notice and comment, the Regulatory Flexibility Act ⁸ does not apply.

⁸ 5 U.S.C. 601 et seq. See id. section 601(2).

List of Subjects in 47 CFR Part 76

Television.

Federal Communications Commission.
Thomas Horan,
Chief of Staff, Media Bureau.

Final Rules

For the reasons discussed in the preamble, the Federal Communications Commission amends 47 CFR part 76 by making the following technical amendment:

PART 76—MULTICHANNEL VIDEO AND CABLE TELEVISION SERVICE

1. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

2. Section 76.66 is amended by revising paragraph (e)(3) to read as follows:

§ 76.66 Satellite broadcast signal carriage.

* * * * *

(e) * * *

(3) A satellite carrier shall use the October 2021 Nielsen Local TV Station Information for the retransmission consent-mandatory carriage election cycle commencing on January 1, 2024, and ending on December 31, 2026. The October 2024 Nielsen Local TV Station Information Report shall be used for the retransmission consent-mandatory carriage election cycle commencing January 1, 2027, and ending December 31, 2029, and so forth using the publications for the October two years prior to each triennial election pursuant to this section. Provided, however, that a county deleted from a market by Nielsen need not be subtracted from a market in which a satellite carrier provides local-into-local service, if that county is assigned to that market in the 1999-2000 Nielsen Station Index Directory or any subsequent issue of that publication, or the Local TV Station Information Report commencing with October 2021, and every three years thereafter (i.e., October 2024, October 2027, etc.). A satellite carrier may determine which local market in the State of Alaska will be deemed to be the relevant local market in connection with each subscriber in an area in the State of Alaska that is outside of a designated market, as described in paragraph (e)(2) of this section.

* * * * *

[FR Doc. 2023-19612 Filed 9-11-23; 8:45 am]

BILLING CODE 6712-01-P